DEPARTMENT OF DEFENSE

GENERAL SERVICES ADMINISTRATION

NATIONAL AERONAUTICS AND SPACE ADMINISTRATION

[OMB Control No. 9000-0197; Docket No. 2018-0003; Sequence No. 19]

Information Collection; Use of Products and Services of Kaspersky Lab

AGENCY: Department of Defense (DOD), General Services Administration (GSA), and National Aeronautics and Space Administration (NASA).

ACTION: Notice of request for comments regarding an extension to an existing OMB clearance.

SUMMARY: Under the provisions of the Paperwork Reduction Act, the Regulatory Secretariat Division will be submitting to the Office of Management and Budget (OMB) a request to review and approve an existing OMB emergency clearance notice.

DATES: Submit comments on or before August 21, 2018.

ADDRESSES: Submit comments identified by Information Collection 9000-0197; Use of Products and Services of Kaspersky Lab, by any of the following methods:

• Regulations.gov: http://www.regulations.gov. Submit comments via the Federal eRulemaking portal by searching for the OMB Control number 9000-0197. Select the link “Comment Now” that corresponds with “Information Collection 9000-0197; Use of Products and Services of Kaspersky Lab”. Follow the instructions on the screen. Please include your name, company name (if any), and “Information Collection 9000-0197; Use of Products and Services of Kaspersky Lab.

• Mail: General Services Administration, Regulatory Secretariat Division (MVCB), 1800 F Street NW, Washington, DC 20405-0001. ATTN: Ms. Mandell/IC 9000-0197; Use of Products and Services of Kaspersky Lab.

Instructions: Please submit comments only and cite Information Collection 9000-0197; Use of Products and Services of Kaspersky Lab, in all correspondence related to this collection. Comments received generally will be posted without change to http://www.regulations.gov, including any personal and/or business confidential information provided. To confirm receipt of your comment(s), please check www.regulations.gov, approximately two-to-three days after submission to verify posting (except allow 30 days for posting of comments submitted by mail).

SUPPLEMENTARY INFORMATION:

A. Purpose

The Paperwork Reduction Act of 1995 (44 U.S.C. 3501 et seq.) (PRA) provides that an agency generally cannot conduct or sponsor a collection of information, and no person is required to respond to, nor be subject to, a penalty for failure to comply with a collection of information, unless that collection has obtained Office of Management and Budget (OMB) approval and displays a currently valid OMB Control Number.

DoD, GSA, and NASA requested and OMB authorized emergency processing of an information collection involved in this rule, as OMB Control Number 9000-0197 (FAR case 2018-010, 52.204-23, Prohibition on Contracting for Hardware, Software, and Services Developed or Provided by Kaspersky Lab and Other Covered Entities) consistent with 5 CFR 1320.13. DoD, GSA, and NASA have determined the following conditions have been met:

a. The collection of information is needed prior to the expiration of time periods normally associated with a routine submission for review under the provisions of the Paperwork Reduction Act, in view of the deadline for this provision of the NDAA which was signed into law in December 2017 and requires action before the prohibition goes into effect on October 1, 2018.

b. The collection of information is essential to the mission of the agencies to ensure the Federal Government does not purchase prohibited articles, and can respond appropriately if any such articles are not identified until after delivery or use.

c. The use of normal clearance procedures would prevent the collection of information from contractors, for national security purposes.

This requirement supports implementation of Section 1634 of Division A of the National Defense Authorization Act for Fiscal Year 2018 (Pub. L. 115-91). This section prohibits Government use of any hardware, software, or services developed or provided, in whole or in part, by Kaspersky Lab or its related entities. This requirement is implemented in the Federal Acquisition Regulation (FAR) through the clause at FAR 52.204-23, Prohibition on Contracting for Hardware, Software, and Services Developed or Provided by Kaspersky Lab and Other Covered Entities.

This clearance covers the following requirement:

FAR 52.204-23 requires contractors to report covered products identified during performance of a contract.

DoD, GSA, and NASA request approval of this information collection in order to implement the law. The information will be used by agency personnel to identify and remove prohibited hardware, software, or services from Government use. Under the Paperwork Reduction Act (PRA) of 1995, Federal agencies must obtain approval from the Office of Management and Budget (OMB) for each collection of information they conduct or sponsor.

A notice was published in the Federal Register at 83 FR 28141, on June 15, 2018, as a part of an interim rule under FAR Case 2018-010, Use of Products and Services of Kaspersky Lab.

B. Annual Reporting Burden

Number of Respondents: 4,882.

Responses per Respondent: 5.

Total Responses: 24,410.

Average Burden Hours per Response: 1.5.

Total Burden Hours: 36,615.

The public reporting burden for this collection of information consists of reports of identified covered articles during contract performance as required by 52.204-23. Reports are estimated to average 1.5 hour per response, including the time for reviewing definitions, searching existing data sources, gathering and maintaining the data needed, and completing and reviewing the report.

C. Public Comments

Public comments are particularly invited on: Whether this collection of information is necessary for the proper performance of functions of the FAR, and will have practical utility; whether the estimate of the public burden of this collection of information is accurate, and based on valid assumptions and methodology; ways to enhance the quality, utility, and clarity of the information to be collected; and ways to minimize the burden of the collection of information on those entities who will respond, through the use of appropriate technological collection techniques or other forms of information technology (IT).

With respect to the evaluation of burdens, in particular, DoD, GSA, and NASA especially welcome public comments on:

(1) The types of personnel that would be involved in developing and maintaining compliance with prohibition and required reports (e.g., IT security and cyber specialists, attorneys, compliance officers) and assumptions about the amount of labor hours and associated costs required to meet these responsibilities;

(2) The types of system changes specifically required within an entity to comply with this rule, as well as associated costs; and

(3) Steps that an entity will take in order to achieve compliance, as well as associated hours and costs;

(4) Any data that can help to inform the average number of subcontracts that may be affected by this rule.

Obtaining Copies of Proposals: Requesters may obtain a copy of the information collection documents from the General Services Administration, Regulatory Secretariat Division (MVCB), 1800 F Street NW, Washington, DC 20405, telephone 202-501-4755.

Please cite OMB Control No. 9000-0197, Use of Products and Services of Kaspersky Lab, in all correspondence.

Dated: June 18, 2018.
William Clark,
Director, Federal Acquisition Policy Division, Office of Governmentwide Acquisition Policy, Office of Acquisition Policy, Office of Govenrmentwide Policy.

[FR Doc. 2018-13402 Filed 6-21-18; 8:45 am]

BILLING CODE 6820-EP-P